DEPARTMENT OF TRANSPORTATION

Federal Aviation Administration

Notice of Intent To Permanently Change the Use of Airport Property Currently Shown on the Airport Layout Plan From Aeronautical Property to Non-Aeronautical Property at the Boca Raton Airport, Boca Raton, FL

AGENCY: Federal Aviation Administration (FAA), DOT.

ACTION: Request for public comment.

SUMMARY: The Federal Aviation Administration is requesting public comment on Boca Raton Airport Authority's (BRAA) request to change +/− 4.67 acres of airport property from aeronautical use to non-aeronautical use. The parcel in question is the last remaining parcel of aeronautical land available at the Boca Raton Airport. The property in question is on the east side of Airport Road and approximately 1 mile north of Glades Road between the Premiere leasehold and the Fairfield Inn leasehold. The BRAA intends to use the property to develop an office building and possible restaurant(s). Portions of the building would house BRAA office, while the remainder would be leased to third party tenants for revenue generation. Documents reflecting the Sponsor's request are available, by appointment only, for inspection at the Airport Manager's office and the FAA Airport District Office.

DATES: Comments must be received on or before May 7, 2007.

ADDRESSES: Documents are available for review at the Airport Manager's office by contacting Mr. Ken A. Day, Airport Manager, 3700 Airport Road; Suite #305, Boca Raton, Florida 33431 or at (541) 391-2202. Documents are also available at the FAA Orlando Airport District Office by contacting Mr. Dean Stringer, Manager, 5950 Hazeltine National Drive; Suite 400, Orlando Florida 32822 or at (407) 812-6331, extension 117. Written comments on the Sponsor's request must be delivered or mailed, to: Mr. Miguel A. Martinez, Program Manager, 5950 Hazeltine National Drive; Suite 400, Orlando Florida 32822 or at (407) 812-6331, extension 123.

FOR FURTHER INFORMATION CONTACT: Mr. Miguel A. Martinez, Program Manager, 5950 Hazeltine National Drive; Suite 400, Orlando Florida 32822 or at (407) 812-6331, extension 123.

SUPPLEMENTARY INFORMATION: Section 125 of The Wendell H. Ford Aviation Investment and Reform Act for the 21st Century (AIR-21) requires the FAA to provide an opportunity for public notice and comment prior to the “waiver” or “modification” of a sponsor's Federal obligation to use certain airport land for aeronautical purposes. Currently the parcel is designated as Aviation Support on the Airport Layout Plan but does not have direct access to the taxiway/runway system. Aviation uses requiring airfield access to the taxiway/runway system may not be physically possible without obtaining easements across adjoining leased properties.

W. Dean Stringer,
Manager, Orlando Airports District Office, Southern Region.

[FR Doc. 07-1664 Filed 4-4-07; 8:45 am]

BILLING CODE 4910-13-M